DEPARTMENT OF AGRICULTURE

Forest Service

Newspapers Used for Publication of Legal Notices in the Southwestern Region; Arizona, New Mexico, and Parts of Oklahoma and Texas

AGENCY: Forest Service, Agriculture (USDA).

ACTION: Notice of newspapers of record.

SUMMARY: This notice lists the newspapers that will be used by all ranger districts, national forests and grasslands, and regional office of the Southwestern Region to publish legal notices. The intended effect of this action is to inform interested members of the public which newspapers the Forest Service will use to publish notices of proposed actions, notices of decision, and notices of opportunity to file an objection. This will provide the public with constructive notice of Forest Service proposals and decisions, provide information on the procedures to comment or object, and establish the date that the Forest Service will use to determine if comments or objections were timely.

DATES: Publication of legal notices in the listed newspapers will begin on the date of this publication and continue until further notice.

ADDRESSES: Roxanne Turley, Regional Administrative Review Coordinator, Forest Service, Southwestern Region; 333 Broadway SE, Albuquerque, NM 87102-3498.

FOR FURTHER INFORMATION CONTACT: Roxanne Turley, Regional Administrative Review Coordinator, by email at: Roxanne.Turley@usda.gov or by phone at: (505) 842-3178.

SUPPLEMENTARY INFORMATION: The administrative procedures at 36 Code of Federal Regulations (CFR) 218 and 219 require the Forest Service to publish notices in a newspaper of general circulation. The content of the notices is specified in 36 CFR 218 and 219. In general, the notices will identify: the decision or project, by title or subject matter; the name and title of the official making the decision; how to obtain additional information; and where and how to file comments or objections. The date the notice is published will be used to establish the official date for the beginning of the comment or objection period.

Southwestern Regional Office

Regional Forester notices of availability for comment, decisions, and objections affecting National Forest System lands in the State of New Mexico for any projects of region-wide impact, or for any projects affecting more than one national forest or national grassland in New Mexico are published in: Albuquerque Journal, Albuquerque, New Mexico.

Regional Forester notices of availability for comment, decisions, and objections affecting National Forest System lands in the State of Arizona for any projects of region-wide impact, or for any projects affecting more than one national forest in Arizona are published in: East Valley Tribune, Tempe, Arizona.

Regional Forester notices of availability for comment, decisions, and objections affecting national grasslands in New Mexico, Oklahoma, and Texas are listed by grassland and location as follows:

Kiowa National Grassland notices in Colfax, Harding, Mora and Union Counties, New Mexico, are published in: Union County Leader, Clayton, New Mexico.

Rita Blanca National Grassland in Cimarron County, Oklahoma, notices are published in: Boise City News, Boise City, Oklahoma.

Rita Blanca National Grassland in Dallam County, Texas, notices are published in: The Dalhart Texan, Dalhart, Texas.

Black Kettle National Grassland in Roger Mills County, Oklahoma, notices are published in: Cheyenne Star, Cheyenne, Oklahoma.

Black Kettle National Grassland in Hemphill County, Texas, notices are published in: The Canadian Record, Canadian, Texas.

McClellan Creek National Grassland in Gray County, Texas, notices are published in: The Pampa News, Pampa, Texas.

Regional Forester notices of availability for comment, decisions, and objections affecting only one national forest or national grassland unit will appear in the newspaper of record elected by each national forest or national grassland as listed below.

Apache-Sitgreaves National Forests, Arizona

Notices for availability for comment, decisions, and objections by Forest Supervisor, Alpine Ranger District, Black Mesa Ranger District, Lakeside Ranger District, and Springerville Ranger District are published in: The White Mountain Independent, Apache County, Arizona.

Clifton Ranger District notices are published in: Copper Era, Clifton, Arizona.

Coconino National Forest, Arizona

Notices for availability for comment, decisions, and objections by Forest Supervisor, Mogollon Rim Ranger District and Flagstaff Ranger District are published in: Arizona Daily Sun, Flagstaff, Arizona.

Red Rock Ranger District notices are published in: Red Rock News, Sedona, Arizona.

Coronado National Forest, Arizona

Notices for availability for comment, decisions, and objections by the Forest Supervisor and Santa Catalina Ranger District are published in: The Daily Territorial, Tucson, Arizona.

Douglas Ranger District notices for projects occurring within the Chiricahua and Dragoon Mountain Ranges (the Chiricahua and Dragoon Ecosystem Management Areas) are published in: Herald/Review, Sierra Vista, Arizona; notices for projects occurring within the Peloncillo Mountain Range (the Peloncillo Ecosystem Management Area) are published in: Hidalgo County Herald, Lordsburg, New Mexico.

Nogales Ranger District notices are published in: Nogales International, Nogales, Arizona.

Sierra Vista Ranger District notices are published in: Herald/Review, Sierra Vista, Arizona.

Safford Ranger District notices are published in: Eastern Arizona Courier, Safford, Arizona.

Kaibab National Forest, Arizona

Notices for availability for comment, decisions, and objections by Forest Supervisor, North Kaibab Ranger District, Tusayan Ranger District, and Williams Ranger District are published in: Arizona Daily Sun, Flagstaff, Arizona.

Prescott National Forest, Arizona

Notices for availability for comment, decisions, and objections by Forest Supervisor, Bradshaw Ranger District, and Chino Valley Ranger District are published in: Daily Courier, Prescott, Arizona.

Verde Ranger District notices are published in: Verde Independent, Cottonwood, Arizona.

Tonto National Forest, Arizona

Notices for availability for comment, decisions, and objections by Forest Supervisor, Cave Creek Ranger District and Mesa Ranger District are published in: Arizona Capitol Times, in Phoenix, Arizona.

Globe Ranger District notices are published in: Arizona Silver Belt, Globe, Arizona.

Payson Ranger District, Pleasant Valley Ranger District and Tonto Basin Ranger District notices are published in: Payson Roundup, Payson, Arizona.

Carson National Forest, New Mexico

Notices for availability for comment, decisions, and objections by Forest Supervisor, Camino Real Ranger District, Tres Piedras Ranger District and Questa Ranger District are published in: The Taos News, Taos, New Mexico.

Canjilon Ranger District and El Rito Ranger District notices are published in: Rio Grande Sun, Espanola, New Mexico.

Jicarilla Ranger District notices are published in: Farmington Daily Times, Farmington, New Mexico.

Cibola National Forest and National Grasslands, New Mexico, Oklahoma and Texas

Notices for availability for comment, decisions, and objections by Forest Supervisor affecting National Forest System lands in New Mexico, except the national grasslands, are published in: Albuquerque Journal, Albuquerque, New Mexico.

Mt. Taylor Ranger District notices are published in: Cibola Citizen, Grants, New Mexico.

Magdalena Ranger District notices are published in: El Defensor-Chieftain, Socorro, New Mexico.

Mountainair Ranger District notices are published in: The Independent, Edgewood, New Mexico.

Sandia Ranger District notices are published in: Albuquerque Journal, Albuquerque, New Mexico.

Forest Supervisor notices affecting national grasslands in New Mexico, Oklahoma, and Texas are published by grassland and location as follows:

Kiowa National Grassland notices in Colfax, Harding, Mora and Union Counties, New Mexico, are published in: Union County Leader, Clayton, New Mexico.

Rita Blanca National Grassland in Cimarron County, Oklahoma, notices are published in: Boise City News, Boise City, Oklahoma.

Rita Blanca National Grassland in Dallam County, Texas, notices are published in: The Dalhart Texan, Dalhart, Texas.

Black Kettle National Grassland in Roger Mills County, Oklahoma, notices are published in: Cheyenne Star, Cheyenne, Oklahoma.

Black Kettle National Grassland in Hemphill County, Texas, notices are published in: The Canadian Record, Canadian, Texas.

McClellan Creek National Grassland in Gray County, Texas, notices are published in: The Pampa News, Pampa, Texas.

Gila National Forest, New Mexico

Notices for availability for comment, decisions, and objections by Forest Supervisor, Quemado Ranger District, Reserve Ranger District, Glenwood Ranger District, Silver City Ranger District, and Wilderness Ranger District are published in: Silver City Daily Press, Silver City, New Mexico.

Black Range Ranger District notices are published in: Sierra County Sentinel, Truth or Consequences, New Mexico.

Lincoln National Forest, New Mexico

Notices for availability for comment, decisions, and objections by Forest Supervisor and the Sacramento Ranger District are published in: Alamogordo Daily News, Alamogordo, New Mexico.

Guadalupe Ranger District notices are published in: Carlsbad Current Argus, Carlsbad, New Mexico.

Smokey Bear Ranger District notices are published in: Ruidoso News, Ruidoso, New Mexico.

Santa Fe National Forest, New Mexico

Notices for availability for comment, decisions, and objections by Forest Supervisor, Coyote Ranger District, Cuba Ranger District, Espanola Ranger District, Jemez Ranger District, and Pecos-Las Vegas Ranger District are published in: Albuquerque Journal, Albuquerque, New Mexico.

Lisa Northrop,
Associate Deputy Chief State, Private, and Tribal Forestry, National Forest System.

[FR Doc. 2026-02183 Filed 2-2-26; 8:45 am]

BILLING CODE 3411-15-P